OFFICE OF THE UNITED STATES TRADE REPRESENTATIVE

[Docket Number USTR-2023-0003]

Submission of Post-Hearing Comments: Annual Review of Country Eligibility for Benefits Under the African Growth and Opportunity Act for Calendar Year 2024

AGENCY: Office of the United States Trade Representative.

ACTION: Notice and request for post-hearing comments.

SUMMARY: On July 24, 2023, the Office of the United States Trade Representative (USTR) held a virtual public hearing to receive oral testimony related to the annual review of the eligibility of sub-Saharan African countries to receive the benefits of the African Growth and Opportunity Act (AGOA). USTR is accepting post-hearing comments until August 8, 2023.

DATES: August 8, 2023 at 5:00 p.m. EDT: Deadline for the submission of post hearing submissions, briefs, supplementary materials, and statements related to the virtual public hearing.

ADDRESSES: The AGOA Subcommittee strongly prefers electronic submissions made through the Federal eRulemaking Portal: https://www.regulations.gov (Regulations.gov). Follow the instructions for submitting written comments sections II and III below, using Docket Number USTR-2023-0003. For alternatives to on-line submissions, please contact Jeremy Streatfeild, Director of African Affairs, Office of African Affairs, in advance of the deadline at Jeremy.E.Streatfeild@ustr.eop.gov or (202) 395-8642.

FOR FURTHER INFORMATION CONTACT: Jeremy Streatfeild, Director of African Affairs, Office of African Affairs, at Jeremy.E.Streatfeild@ustr.eop.gov or (202) 395-8642.

SUPPLEMENTARY INFORMATION:

I. Background

In a notice published on May 23, 2023 (88 FR 31579) (May 23 notice), USTR requested public comments for the annual review of the eligibility of sub-Saharan African countries to receive the benefits of the AGOA, and announced a virtual public hearing which was held on July 24, 2023. The May 23 notice included the hearing date, as well as deadlines for requests to testify and the submissions of written comments. An announcement regarding post-hearing submissions was made during the July 24 virtual hearing, and the transcript of the hearing will be available on the USTR website.

This notice announces that interested parties may submit post-hearing briefs, supplementary materials, and statements by 5:00 p.m. EDT on August 8, 2023.

II. Procedures for Written Submissions

To be assured of consideration, submit your post-hearing briefs, supplementary materials, and statements by the August 8, 2023, 5:00 p.m. EDT deadline. All submission must be in English. The AGOA Subcommittee strongly encourages submissions via Regulations.gov, using Docket Number USTR-2023-0003.

To make a submission via Regulations.gov, enter Docket Number USTR-2023-0003 in the `search for' field on the home page and click `search.' The site will provide a search results page listing all documents associated with this docket. Find a reference to this notice by selecting `notice' under `document type' in the `refine documents results' section on the left side of the screen and click on the link entitled `comment.' Regulations.gov allows users to make submissions by filling in a `type comment' field or by attaching a document using the `upload file' field. The AGOA Subcommittee prefers that you provide submissions in an attached document and note `see attached' in the `comment' field on the online submission form. The AGOA Subcommittee prefers submissions in Microsoft Word (.doc) or Adobe Acrobat (.pdf). If you use an application other than those two, please indicate the name of the application in the `type comment' field.

At the beginning of your submission or on the first page (if an attachment), include the following text: (1) 2024 AGOA Eligibility Review; and (2) the relevant country or countries. Submissions should not exceed 30 single-spaced, standard letter-size pages in 12-point type, including attachments. Please do not attach separate cover letters to electronic submissions; rather, include any information that might appear in a cover letter in the submission itself. Similarly, to the extent possible, please include any exhibits, annexes, or other attachments in the same file as the submission itself, not as separate files. You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. The AGOA Subcommittee may not consider submissions that you do not make in accordance with these instructions.

If you are unable to provide submissions as requested, please contact Jeremy Streatfeild, Director of African Affairs, Office of African Affairs, in advance of the deadline at Jeremy.E.Streatfeild@ustr.eop.gov or (202) 395-8642, to arrange for an alternative method of transmission. USTR will not accept hand-delivered submissions. General information concerning USTR is available at www.ustr.gov.

III. Business Confidential Information (BCI) Submissions

If you ask the AGOA Subcommittee to treat information you submit as BCI, you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.'

IV. Public Viewing of Review Submissions

USTR will post written submissions in the docket for public inspection, except properly designated BCI. You can view submissions at Regulations.gov by entering Docket Number USTR-2023-0003 in the search field on the home page.

William Shpiece,
Chair of the Trade Policy Staff Committee, Office of the United States Trade Representative.

[FR Doc. 2023-16027 Filed 7-27-23; 8:45 am]

BILLING CODE 3390-F3-P